DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Proposed Project: 2011-2014 National Survey on Drug Use and Health: Methodological Field Tests (OMB No. 0930-0290)-Revision

The National Survey on Drug Use and Health (NSDUH) is a survey of the civilian, non-institutionalized population of the United States 12 years old and older. The data are used to determine the prevalence of use of tobacco products, alcohol, illicit substances, and illicit use of prescription drugs. The results are used by SAMHSA, ONDCP, Federal Government agencies, and other organizations and researchers to establish policy, direct program activities, and better allocate resources.

In March 2008, SAMHSA received a 3-year renewal of its generic clearance for methodological field tests. This will be a request for another renewal of the generic approval to continue methodological tests over the next 3 years, with conditions similar to the previous clearance. These methodological tests will continue to be designed to examine the feasibility, quality, and efficiency of new procedures or revisions to existing survey protocol. Specifically, the tests will measure the reliability and validity of certain questionnaire sections and items through multiple measurements on a set of respondents; assess new methods for gaining cooperation and participation of respondents with the goal of increasing response and decreasing potential bias in the survey estimates; and assess the impact of new sampling techniques and technologies on respondent behavior and reporting. Research will involve focus groups, cognitive laboratory testing, field tests, and customer surveys.

The next wave of methodological tests will continue to examine ways to increase data quality, lower operating costs, and gain a better understanding of sources and effects of nonsampling error on the NSDUH estimates. Particular attention will be given to minimizing the impact of design changes so that survey data continue to remain comparable over time. If these tests provide successful results, current procedures or data collection instruments may be revised.

The number of respondents to be included in each field test will vary, depending on the nature of the subject being tested and the target population. However, the total estimated response burden is 8,251 hours. The exact number of subjects and burden hours for each test are unknown at this time, but will be clearly outlined in each individual submission. The table below, however, describes the anticipated burden for each of the major testing activities for which generic approval is being tested.

Estimated Burden for NSDUH Methodological Field Tests
Activity | Number of respondents | Responses per respondent | Total number of responses | Average burden per response (hrs.) | Total burden (hrs.)
a. Focus Groups | 270 | 1 | 270 | 2.0 | 540
b. Cognitive laboratory testing | 200 | 1 | 200 | 1.0 | 200
c. Field Tests | 6,600 | 1 | 6,600 | 1.0 | 6,600
d. Customer Satisfaction Surveys | 300 | 1 | 300 | 0.25 | 75
Household screening for c | 8,910 | 1 | 8,910 | 0.083 | 740
Screening Verification for c | 445 | 1 | 445 | 0.067 | 30
Interview Verification for c | 990 | 1 | 990 | 0.067 | 66
Total | 17,715 |  | 17,715 |  | 8,251
Annual Average (Total divided by 3 years) | 5,905 |  | 5,905 |  | 2,750

Written comments and recommendations concerning the proposed information collection should be sent by January 18, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: December 1, 2010.
Elaine Parry,
Director, Office of Management, Technology and Operations.

[FR Doc. 2010-31585 Filed 12-15-10; 8:45 am]

BILLING CODE 4162-20-P